DEPARTMENT OF TRANSPORTATION

Pipeline and Hazardous Materials Safety Administration

Hazardous Materials: Notice of Applications for Modifications to Special Permit

AGENCY: Pipeline and Hazardous Materials Safety Administration (PHMSA), Transportation (DOT).

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 27, 2021.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on August 5, 2021.
Donald P. Burger,
Chief, General Approvals and Permits Branch.

Special Permits Data
Application No. | Applicant | Regulation(s) affected | Nature of the special permits thereof
14206-M | Hexagon Digital Wave LLC | 180.205, 172.203(a), 172.301(c) | To modify the special permit to authorize DOT-SP 14157 and DOT-SP 13488 cylinders. (modes 1, 2, 3, 4, 5)
14287-M | Troxler Electronic Laboratories, Inc | 173.465, 173.410, 173.411, 173.412, 173.415 | To modify the special permit to authorize additional portable nuclear gauges. (modes 1, 3, 4)
20336-M | Geotek Coring Inc | 173.3(d) | To modify the special permit to authorize up to 36 salvage cylinders in an ISO container. (modes 1, 3)
21139-M | KULR Technology Corporation | 172.200, 172.700(a) | To modify the special permit to authorize the transportation of lithium batteries transported for purposes of recycling, reuse, refurbishment, repurposing, or evaluation. (modes 1, 2)
21195-M | Panasonic Energy Corporation of America | 173.185(c) | To modify the special permit to authorize additional packaging. (mode 1)
21249-M | Romeo Systems, Inc. | 172.101(j) | To modify the special permit to authorize the use of two additional production modules. (mode 4)

[FR Doc. 2021-17149 Filed 8-11-21; 8:45 am]

BILLING CODE P